DEPARTMENT OF ENERGY

Federal Energy Regulatory Commission

[Project Nos. 10675-021, 10676-027, 10677-024, and 10678-026]

Central Rivers Power MA, LLC; Notice of Availability of Environmental Assessment

In accordance with the National Environmental Policy Act of 1969 and the Federal Energy Regulatory Commission's (Commission or FERC) regulations, 18 Code of Federal Regulations (CFR) part 380, Commission staff reviewed Central Rivers Power MA, LLC's application to amend the terms and conditions for the exemptions from licensing for the Dwight Project No. 10675, Red Bridge Project No. 10676, Putts Bridge Project No. 10677, and Indian Orchard Project No. 10678 and have prepared an Environmental Assessment (EA). The U.S. Fish and Wildlife Service and the Massachusetts Division of Fish and Wildlife have provided updated terms and conditions for the exemptions that modify operation of the projects. Primarily the updated terms and conditions stipulate operation of the projects in a run-of-river mode, with revised bypass flow releases. The projects are located on the Chicopee River in Hampden County, Massachusetts, and do not occupy federal lands.

The EA contains Commission staff's analysis of the potential environmental effects of the proposed amendment, and concludes that it would not constitute a major federal action that would significantly affect the quality of the human environment.

The Commission provides all interested persons with an opportunity to view and/or print the EA via the internet through the Commission's Home Page (http://www.ferc.gov) using the “eLibrary” link. Enter the docket number, excluding the last three digits in the docket number field, to access the document. For assistance, contact FERC Online Support at FERCOnlineSupport@ferc.gov or toll-free at (866) 208-3676, or for TTY, (202) 502-8659.

You may also register online at https://ferconline.ferc.gov/eSubscription.aspx to be notified via email of new filings and issuances related to this or other pending projects. For assistance, contact FERC Online Support.

Any comments should be filed within 30 days from the date of this notice. The Commission strongly encourages electronic filing. Please file comments using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support. In lieu of electronic filings, you may submit a paper copy. Submissions sent via the U.S. Postal Service must be addressed to: Kimberly D. Bose, Secretary, Federal Energy Regulatory Commission, 888 First Street NE, Room 1A, Washington, DC 20426. The first page of any filing should include docket numbers P-10675-021, P-10676-027, P-10677-024, and P-10678-026.

For further information, contact Rebecca Martin at 202-502-6012 or Rebecca.Martin@ferc.gov.

Dated: January 23, 2023.
Kimberly D. Bose,
Secretary.

[FR Doc. 2023-01663 Filed 1-26-23; 8:45 am]

BILLING CODE 6717-01-P